DEPARTMENT OF DEFENSE

[DOD-2006-OS-0114]

Office of the Inspector General; Privacy Act of 1974; System of Records

AGENCY: Office of the Inspector General, DoD.

ACTION: Notice to amend systems of records.

SUMMARY: The Office of the Inspector General (OIG) is amending a system of records notice in its existing inventory of record systems subject to the Privacy Act of 1974 (5 U.S.C. 552a), as amended.

DATES: This proposed action will be effective without further notice on July 5, 2006 unless comments are received which result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: May 26, 2006.
C.R. Choate,
Alternate OSD Federal Register Liaison Officer, Department of Defense.

CIG-06

System name:

Investigative Files (May 23, 2005, 70 FR 29483).

Changes:

* * * * *

System location:

Delete entry and replace with: “Primary location: Office of the Inspector General, Department of Defense, Office of the Deputy Inspector General for Investigations, Defense Criminal Investigative Service (DCIS), 400 Army Navy Drive, Arlington, VA 22202-4704.

Decentralized locations: Defense Criminal Investigative Service Field Offices, Resident Agencies, and Posts of Duty.”

Purpose(s):

Delete first paragraph and replace with: “To conduct criminal investigations, crime prevention and criminal intelligence activities, to accomplish management studies involving the analysis, compilation of statistics, quality control, to ensure that completed investigations are legally sufficient and result in overall improvement in techniques, training and professionalism. Includes personnel security, internal security, criminal, and other law enforcement matters, all of which are essential to the effective operation of the Office of the Inspector General, DCIS.”

Retrievability:

Delete entry and replace with: “Records are retrieved by individuals name, Social Security Number, or case control number.”

Safeguards:

Delete entry and replace with: “The primary storage location and some decentralized locations are in buildings protected by guards during non-duty hours. All OIG records are stored in locked safes and are accessible only to authorized personnel who have a need-to-know in conjunction with their official duties. Computerized listings are password protected.”

Retention and disposal:

Delete entry and replace with: “Investigative Case files and Information Reports are maintained in the office of origin for two years after case closure and then transferred to the OIG DoD Headquarters for preparation and final transfer to the Washington National Records Center where they are retained for 20 years and 10 years, respectively, and ultimately destroyed.

Those records which attract great public or judicial attention or document a historical development in the OIG DoD may be deemed permanent and transferred directly to the National Archives and Records Administration.”

Notificaton procedure:

Delete entry and replace with: “Individuals seeking to determine whether information about themselves is contained in this system should address written inquiries to the Freedom of Information Act Requester Service Center/Privacy Act Office, 400 Army Navy Drive, Arlington, VA 22202-4704:

Written requests should contain the individual's full name (including former names and aliases), and Social Security Number, current home address, telephone number, and the request must be signed.”

Record access procedures:

Delete entry and replace with: “Individuals seeking access to information about themselves contained in this system should address written inquiries to the Freedom of Information Act Requester Service Center/Privacy Act Office, 400 Army Navy Drive, Arlington, VA 22202-4704.

Written requests should contain the individual's full name (including former names and aliases), and Social Security Number, current home address, telephone number, and the request must be signed.”

Record source categories:

Delete entry and replace with: “Subjects and suspects of OIG investigations. Interview of witnesses, victims, and confidential sources. All types of records and information maintained by all levels of government, private industry, and non-profit organizations reviewed during the course of the investigation or furnished to the OIG. Any other type of record deemed necessary to complete the OIG investigation.”

* * * * *

CIG-06

System name:

Investigative Files.

Primary location: Office of the Inspector General, Department of Defense, Office of the Deputy Inspector General for Investigations, Defense Criminal Investigative Service (DCIS), 400 Army Navy Drive, Arlington, VA 22202-4704.

Decentralized locations: Defense Criminal Investigative Service Field Offices, Resident Agencies, and Posts of Duty.

Categories of individuals covered by the system:

DoD civilian personnel; members of the Armed Forces of the United States, Reserve components, and National Guard units; DoD contractors; individuals residing on, having authorized official access to, or contracting or operating any business or other functions at any DoD installation or facility; and individuals not affiliated with the Department of Defense when their activities have directly threatened the functions, property or personnel of the Department of Defense, or they have threatened any other high ranking government personnel who are provided protective service mandated by the Secretary of Defense, or they have engaged in, or are alleged to engage in criminal acts on DoD installations or directed at the Department of Defense, its personnel or functions; or individuals information regarding DoD activities falling under the purview of OIG responsibilities.

Categories of records in the system:

Reports of Investigations (ROIs), Information Reports (IRs) and criminal intelligence reports containing statements of witnesses, suspects, subject(s) and special agents; laboratory reports, polygraph records to include charts, reports, technical data, rights waivers, polygraph waivers, numerical score sheets, interview logs, test questions sheets, and all other documents relating to the polygraphs, all consensual or nonconsensual monitoring, documentary evidence, physical evidence, summary and administrative data pertaining to preparation and distribution of the report; basis for allegations; investigative information from Federal, State, and local investigative and intelligence agencies and departments and all correspondence relevant to the investigation, location of investigation, year and date of offense, names and personal identifiers of persons who have been subjects of electronic surveillance, suspects, subjects witnesses and victims of crimes, report number which allows access to records noted above; agencies, firms, and Defense Department organizations which were the subject(s) or victim(s) of criminal investigations; and disposition and suspense of offenders listed in criminal investigative files, agents notes, working papers, confidential source documents, subpoenas, Grand Jury documents, fingerprint cards, witness identification data, requests approvals for case openings and/or closings, special investigative techniques requiring approval by management, and any other miscellaneous documents supporting the case files.

Authority for maintenance of the system:

Inspector General Act of 1978 (Pub. L. 95-452), as amended; DoD Directive 5106.1, Inspector General of the Department of Defense; and E.O. 9397 (SSN).

Purpose(s):

To conduct criminal investigations, crime prevention and criminal intelligence activities, to accomplish management studies involving the analysis, compilation of statistics, quality control, to ensure that completed investigations are legally sufficient and result in overall improvement in techniques, training and professionalism. Includes personnel security, internal security, criminal, and other law enforcement matters, all of which are essential to the effective operation of the Office of the Inspector General, DCIS.

The records in this system are used for the following purposes:

Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and/or Federal employees; and to respond to other complaint investigations and congressional inquiries as appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The DoD “Blanket Routine Uses” set forth at the beginning of the OIG's compilation of systems of records notices also apply to this system.

Policies and practices for storing, retrieving, accessing, retaining, and disposing of records in the system:

Storage:

Records are stored on paper in file folders and on electronic storage media.

Retrievability:

Records are retrieved by individual's name, Social Security Number, or case control number.

Safeguards:

The primary storage location and some decentralized locations are in buildings protected by guards during non-duty hours. All OIG records are stored in locked safes and are accessible only to authorized personnel who have a need-to-know in conjunction with their official duties. Computerized listings are password protected.

Retention and disposal:

Investigative Case files and Information Reports are maintained in the office of origin for two years after case closure and then transferred to the OIG DoD Headquarters for preparation and final transfer to the Washington National Records Center where they are retained for 20 years and 10 years, respectively, and ultimately destroyed.

Those records which attract great public or judicial attention or document a historical development in the OIG DoD may be deemed permanent and transferred directly to the National Archives and Records Administration.

System manager(s) and address:

Director, Internal Operations Directorate, Office of the Deputy Inspector General for Investigations, Defense Criminal Investigative Service, Office of the Inspector General of the Department of Defense, 400 Army Navy Drive, Arlington, VA 22202-4704.

Notification procedure:

Individuals seeking to determine whether information about themselves is contained in this system should address written inquiries to the Freedom of Information Act Requester Service Center/Privacy Act Office, 400 Army Navy Drive, Arlington, VA 22202-4704.

Written requests should contain the individual's full name (including former names and aliases), and Social Security Number, current home address, telephone number, and the request must be signed.

Record access procedures:

Individuals seeking access to information about themselves contained in this system should address written inquiries to the Freedom of Information Act Requester Service Center/Privacy Act Office, 400 Army Navy Drive, Arlington, VA 22202-4704.

Written requests should contain the individual's full name (including former names and aliases), and Social Security Number, current home address, telephone number, and the request must be signed.

Contesting record procedures:

The OIG's rules for accessing records and for contesting contents and appealing initial agency determinations are published in 32 CFR part 312 or may be obtained from the system manager.

Record source categories:

Subjects and suspects of OIG investigations. Interview of witnesses, victims, and confidential sources. All types of records and information maintained by all levels of government, private industry, and non-profit organizations reviewed during the course of the investigation or furnished to the OIG. Any other type of record deemed necessary to complete the OIG investigation.

Exemptions claimed for the system:

Parts of this system may be exempt pursuant to 5 U.S.C. 552a(j)(2) if the information is compiled and maintained by a component of the agency that performs as its principle function any activity pertaining to the enforcement of criminal laws.

An exemption rule for this record system has been promulgated in accordance with the requirements of 5 U.S.C. 553(b)(1), (2), and (3), (c) and (e) and published in 32 CFR part 312. For additional information contact the system manager.

[FR Doc. 06-5089 Filed 6-2-06; 8:45 am]

BILLING CODE 5001-06-M